EXPORT-IMPORT BANK OF THE U.S.

[Public Notice 2012-0110]

Agency Information Collection Activities: Final Collection; Comment Request

AGENCY: Export-Import Bank of the U.S.

ACTION: Submission for OMB Review and Comments Request.

Form Title: EIB 11-05 Exporter's Certificate For Loan Guarantee & MT Insurance Programs.

SUMMARY: The Export-Import Bank of the United States (Ex-Im Bank), as a part of its continuing effort to reduce paperwork and respondent burden, invites the general public and other Federal Agencies to comment on the proposed information collection, as required by the Paperwork Reduction Act of 1995.

Ex-Im Bank's borrowers, financial institution policy holders and guaranteed lenders provide this form to U.S. exporters, who certify to the eligibility of their exports for Ex-Im Bank support. For direct loans and loan guarantees, the completed form is required to be submitted at time of disbursement and held by either the guaranteed lender or Ex-Im Bank. For MT insurance, the completed forms are held by the financial institution, only to be submitted to Ex-Im Bank in the event of a claim filing. Ex-Im Bank believes that EIB 11-05 requires emergency approval in order to continue operation of its long- and medium-term financing programs. It is an integral component of the programs and is heavily used.

Lack of an emergency approval of this form would preclude our ability to continue operation of its long- and medium-term financial institution programs. Ex-Im Bank developed the referenced form to obtain exporter certifications regarding the export transaction, content sourcing, and their eligibility to participate in USG programs. These details are necessary to determine the value and legitimacy of Ex-Im Bank financing support and claims submitted. It also provides the financial institutions a check on the export transaction's eligibility at the time it is fulfilling a financing request.

Accordingly, Ex-Im Bank requests emergency approval of EIB 11-05 in order to continue operation of these important export programs. The form can be view at: www.exim.gov/pub/pending/eib11-05.pdf.

DATES: Comments should be received on or before August 13, 2012 to be assured of consideration.

ADDRESSES: Comments may be submitted electronically on WWW.REGULATIONS.GOV or by mail to Export Import Bank, 811 Vermont Ave. NW., Washington, DC 20571, Attn: Donna Schneider.

SUPPLEMENTARY INFORMATION: Titles and Form Number EIB 11-05 Exporter's Certificate For Direct Loan, Loan Guarantee & MT Insurance Programs.

OMB Number: 3048-XXXX.

Type of Review: New.

Need and Use: The information collected will provide information needed to determine compliance and content for transaction requests submitted to the Export-Import Bank under its insurance, guarantee, and direct loan programs.

Affected Public: This form affects entities involved in the export of U.S. goods and services.

Annual Number of Respondents: 4,000.

Estimated Time per Respondent: 30 minutes.

Government Annual Burden Hours: 333.3 hours.

Frequency of Reporting or Use: As needed.

Total Cost to the Government: $12,913.

Sharon A. Whitt,
Agency Clearance Officer.

[FR Doc. 2012-14232 Filed 6-12-12; 8:45 am]

BILLING CODE 6690-01-P